DEPARTMENT OF TRANSPORTATION

Office of the Secretary

National Freight Advisory Committee

AGENCY: Office of the Secretary, U.S. Department of Transportation (DOT).

ACTION: Notice of Establishment of National Freight Advisory Committee (NFAC or Committee) and Solicitation of Nominations for Membership.

SUMMARY: Pursuant to Section 9(a)(2) of the Federal Advisory Committee Act (FACA) (5 U.S.C., App. 2.), and in accordance with Title 41, Code of Federal Regulations, Section 102-3.65, and following consultation with the Committee Management Secretariat, General Services Administration, notice is hereby given that the NFAC will be established for a 2-year period.

The Committee will provide advice and recommendations to the Secretary of Transportation on matters related to freight transportation in the United States, including: (1) Implementation of the freight transportation requirements of the Moving Ahead for Progress in the 21st Century Act (Pub. L. 112-141); (2) establishment of the National Freight Network; (3) development of a National Freight Strategic Plan; (4) development of strategies to help States implement State Freight Advisory Committees and State Freight Plans; (5) development of measures of conditions and performance in freight transportation; (6) development of freight transportation investment, data, and planning tools; and (7) legislative recommendations.

Additionally, the establishment of the NFAC is necessary for the Department to carry out its mission and is in the public interest. The Committee will operate in accordance with the provisions of the FACA and the rules and regulations issued in implementation of that Act.

This notice also requests nominations for members of the Committee to ensure a wide range of member candidates and a balanced Committee.

DATES: Nominations must be received on or before midnight E.D.T. on March 21, 2013. The Department encourages nominations submitted any time before the deadline.

ADDRESSES: All nomination materials should be emailed to freight@dot.gov or faxed to the attention of Shira Bergstein at (202) 366-0263, or mailed to Shira Bergstein, U.S. Department of Transportation, Office of the Secretary Office of Policy, Room W84-317, 1200 New Jersey Avenue SE., Washington, DC 20590. Any person needing accessibility accommodations should contact Shira Bergstein at (202) 366-1999.

FOR FURTHER INFORMATION CONTACT: Shira Bergstein, U.S. Department of Transportation, Office of the Secretary Office of Policy, Room W84-317, 1200 New Jersey Avenue SE., Washington, DC 20590; phone (202) 366-1999; email: freight@dot.gov.

SUPPLEMENTARY INFORMATION: The U.S. Department of Transportation is hereby soliciting nominations for members of the NFAC. The Secretary of Transportation will appoint at least 25 committee members. Members will be selected with a view toward achieving varied perspectives on freight transportation, including (1) modes of transportation; (2) regional representation; (3) relevant policy areas such as economic competitiveness, safety, labor, and environment; (4) freight customers and providers; and (5) government bodies. Specifically, the Committee will seek to balance the following interests to the extent practicable: State Departments of Transportation; State, local, and tribal elected officials; local planning offices; shippers, businesses, and economic development; air cargo, freight forwarder, rail, maritime, ports, trucking, and pipelines; labor union, and safety, the environment, and equity communities. Committee members may serve for a term of 2 years or less and may be reappointed for successive terms, with no more than 2 successive terms. The Chair and Vice Chair of the Committee will be appointed by the Under Secretary of Transportation for Policy from among the selected members, and the Committee is expected to meet approximately three times per year or as necessary. Subcommittees may be formed to address specific freight transportation issues. Some Committee members may be appointed as representative members; other Committee members may be appointed as Special Government Employees and will be subject to certain ethical restrictions, and such members will be required to submit certain information in connection with the appointment process.

Process and Deadline for Submitting Nominations: Individuals can self-nominate or be nominated by any individual or organization. For nominators' convenience, a sample template for submitting nominations can be downloaded from http://www.freight.dot.gov. To be considered for the NFAC, nominators should submit the following information:

(1) Contact Information for the nominee, consisting of:

a. Name

b. Title

c. Organization or Affiliation

d. Address

e. City, State, Zip

f. Telephone number

g. Email address

(2) Statement of interest limited to 250 words on why the nominee wants to serve on the NFAC and the unique perspectives and experiences the nominee brings to the NFAC;

(3) Résumé limited to 3 pages describing professional and academic expertise, experience, and knowledge, including any relevant experience serving on advisory committees, past and present;

(4) An affirmative statement that the nominee is not a federally registered lobbyist, and that the nominee understands that if, appointed, the nominee will not be allowed to continue to serve as a Committee member if the nominee becomes a federally registered lobbyist; and

(5) Optional letters of support.

Please do not send company, trade association, organization brochures, or any other promotional information. Materials submitted should total five pages or less and must be formatted in Microsoft Word or PDF. Should more information be needed, DOT staff will contact the nominee, obtain information from the nominee's past affiliations, or obtain information from publicly available sources, such as the Internet.

Nominations may be emailed to freight@dot.gov or faxed to the attention of Shira Bergstein at (202) 366-0263, or mailed to Shira Bergstein, U.S. Department of Transportation, Office of the Secretary Office of Policy, Room W84-317 (P-40), 1200 New Jersey Avenue SE., Washington, DC 20590. Nominations must be received on or before midnight E.D.T. on March 21, 2013. The Department encourages nominations submitted any time before the deadline. The Department is not responsible for any technical difficulties submitting a nomination form. Nominees selected for appointment to the Committee will be notified by return email and by a letter of appointment.

A selection team comprising representatives from several DOT offices will review the nomination packages. The selection team will make recommendations regarding membership to the Under Secretary of Transportation for Policy based on criteria including (1) professional or academic expertise, experience, and knowledge; (2) stakeholder representation; (3) availability and willingness to serve; and (4) relevant experience in working in committees and advisory panels. The Under Secretary of Transportation for Policy will submit a list of recommended candidates to the Secretary of Transportation for review and final selection of Committee members.

Nominations are open to all individuals without regard to race, color, religion, sex, national origin, age, mental or physical disability, marital status, or sexual orientation. To ensure that recommendations to the Secretary of Transportation take into account the needs of the diverse groups served by DOT, membership shall include, to the extent practicable, individuals with demonstrated ability to represent minorities, women, and persons with disabilities. Please note, however, that federally registered lobbyists are ineligible for nomination.

Issued in Washington, DC, on February 13, 2013.
Ray LaHood,
Secretary of Transportation.

[FR Doc. 2013-03759 Filed 2-15-13; 8:45 am]

BILLING CODE 4910-9X-P